ENVIRONMENTAL PROTECTION AGENCY

[FRL-9668-6]

Notice of Proposed Administrative Settlement Pursuant to the Comprehensive Environmental Response, Compensation, and Liability Act

AGENCY: Environmental Protection Agency.

ACTION: Notice; request for public comment.

SUMMARY: In accordance with Section 122(h) of the Comprehensive Environmental Response, Compensation, and Liability Act, as amended (“CERCLA”), 42 U.S.C. 9622(i), notice is hereby given of a proposed administrative settlement concerning the City Storage Superfund Site, located in Sulphur, Calcasieu Parish, Louisiana.

The settlement requires the three (3) settling parties to pay a total of $145,000 as payment of response costs to the Hazardous Substances Superfund plus $2,750.23 in calculated interest. The settlement includes a covenant not to sue pursuant to Section 107 of CERCLA, 42, U.S.C. 9607.

For thirty (30) days beginning on the date of publication of this notice, the Agency will receive written comments relating to this notice and will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas 75202-2733.

DATES: Comments must be submitted on or before June 4, 2012.

ADDRESSES: The proposed settlement and additional background information relating to the settlement are available for public inspection at 1445 Ross Avenue, Dallas, Texas 75202-2733. A copy of the proposed settlement may be obtained from Lance Nixon at, 1445 Ross Avenue, Dallas, Texas 75202-2733 or by calling (214) 665-2203. Comments should reference the City Storage Superfund Site, located in Sulphur, Calcasieu Parish, Louisiana and EPA Docket Number 06-07-09, and should be addressed to Lance Nixon at the address listed above.

FOR FURTHER INFORMATION CONTACT: Gloria Moran, 1445 Ross Avenue, Dallas, Texas 75202-2733 or call (214) 665-3139.

Dated: April 19, 2012.
Samuel Coleman,
Acting Regional Administrator (6RA).

[FR Doc. 2012-10807 Filed 5-3-12; 8:45 am]

BILLING CODE 6560-50-P